DEPARTMENT OF THE INTERIOR

Bureau of Reclamation

Refuge Water Supply Long-Term Water Service Agreements

AGENCY: Bureau of Reclamation, Interior.

ACTION: Notice of public meeting.

SUMMARY: The Bureau of Reclamation (Reclamation) has scheduled the first meeting for long-term water service contracts with the California Department of Fish and Game, Grassland Water District (representing the Grasslands Resources Conservation District), and long-term memoranda of understanding with the U.S. Fish and Wildlife Service. This first meeting will include distribution of the draft agreements, establishing each party's negotiation team, and setting the schedule for future negotiation sessions. The public is welcome to observe the meeting process.

DATES: The first meeting will be held on Thursday, May 18, 2000 from 10 a.m. to 1 p.m.

ADDRESSES: The meeting will be held at the Expo Inn, 1413 Howe Avenue, Sacramento, California.

FOR FURTHER INFORMATION CONTACT: Stan Yarborough, Reclamation, at (916) 978-5516.

SUPPLEMENTARY INFORMATION: The water service contractual agreements are to provide “firm water supplies of suitable quality to maintain and improve wetland habitat areas on units of the National Wildlife Refuge System in the Central Valley of California; on the Gray Lodge, Los Banos, Volta, North Grasslands, and Mendota state wildlife management areas; and on the Grasslands Resources Conservation District in the Central Valley of California,” in accordance with the requirements of section 3406(d) of the Central Valley Project Improvement Act (CVPIA). Before the enactment of the CVPIA, most of the Federal, State and local refuges identified above did not have firm water supplies to meet optimum refuge water management needs (Level 4 needs). The negotiation process that commences on May 18, 2000, is intended to yield new long-term refuge water service agreements to supply up to Level 4 needs. In some cases, these new agreements may replace existing agreements.

Dated: May 11, 2000.
Mary Johannis,
Acting Regional Resources Manager, Mid-Pacific Region.

[FR Doc. 00-12349 Filed 5-15-00; 5:09 pm]

BILLING CODE 4310-94-P